DEPARTMENT OF COMMERCE

National Oceanic and Atmospheric Administration

RIN 0648-XE70

Marine Mammals; File No. 10091

AGENCY: National Marine Fisheries Service (NMFS), National Oceanic and Atmospheric Administration (NOAA), Commerce.

ACTION: Notice; receipt of application.

SUMMARY: Notice is hereby given that the Alaska Department of Fish and Game, 1255 West 8th Street, Juneau, AK, 99811 (Doug Larsen, Responsible Party), has applied in due form for a permit to collect, receive, and import marine mammal specimens for scientific research.

DATES: Written, telefaxed, or e-mail comments must be received on or before January 30, 2008.

ADDRESSES: The application and related documents are available for review upon written request or by appointment in the following office(s):

Permits, Conservation and Education Division, Office of Protected Resources, NMFS, 1315 East-West Highway, Room 13705, Silver Spring, MD 20910; phone (301) 713-2289; fax (301) 427-2521; and

Alaska Region, NMFS, P.O. Box 21668, Juneau, AK 99802-1668; phone (907) 586-7221; fax (907) 586-7249.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301) 427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10091.

FOR FURTHER INFORMATION CONTACT: Amy Sloan or Jennifer Skidmore, (301)713-2289.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), the regulations governing the taking, importing, and exporting of endangered and threatened species (50 CFR 222-226), and the Fur Seal Act of 1966, as amended (16 U.S.C. 1151 et seq.).

The applicant proposes to collect, receive, possess, import, and export marine mammal biological specimens (hard and soft parts) from pinnipeds (excluding walrus) and cetaceans to obtain information on population status and distribution, stock structure, age distribution, mortality rates, productivity, feeding habits, and health that can be used for conservation and management purposes. Specimens would be taken from dead animals (beach-cast, subsistence-hunted, or dead incidental to fisheries) or from live animals handled by researchers under different research permits. No takes from live animals are requested under this permit. The applicant has requested an unlimited number of specimens from less than 1,000 pinnipeds and 500 cetaceans annually. The geographic location for the collection activities would include all coastal areas and open waters of Alaska, including the North Pacific Ocean, Gulf of Alaska, Bering Sea, Chukchi Sea, and Beaufort Sea. Specimens may be imported and exported world-wide to various laboratories and museums for research and curation. The requested duration of the permit is five years.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: December 21, 2007.
Kate Swails,
Acting Chief, Permits, Conservation and Education Division, Office of Protected Resources, National Marine Fisheries Service.

[FR Doc. E7-25404 Filed 12-28-07; 8:45 am]

BILLING CODE 3510-22-S